DEPARTMENT OF DEFENSE

Office of the Secretary

[Transmittal No. 20-47]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-47 with attached Policy Justification and Sensitivity of Technology.

Dated: August 13, 2020.
Aaron T. Siegel,
Alternate OSD Federal Register Liaison Officer, Department of Defense.

BILLING CODE 5001-06-P

BILLING CODE 5001-06-C

Transmittal No. 20-47

Notice of Proposed Issuance of Letter of Offer Pursuant to Section 36(b)(1) of the Arms Export Control Act, as amended

(i) Prospective Purchaser: Government of Lithuania

(ii) Total Estimated Value:

Major Defense Equipment * | $150 million
Other | $230 million
TOTAL | $380 million

(iii) Description and Quantity or Quantities of Articles or Services under Consideration for Purchase: The Government of Lithuania has requested to buy six (6) UH-60M Black Hawk Helicopters in standard U.S. Government configuration with designated unique equipment and Government Furnished Equipment (GFE).

Major Defense Equipment (MDE):

Six (6) UH-60M Black Hawk Helicopters with Designated Unique Equipment

Fourteen (14) T700-GE-701D Engines (12 installed and 2 spares)

Eight (8) AN/AAR-57 Common Missile Warning System (CMWS) (6 production and 2 spares)

Twelve (12) M240H Machine Guns

Non-MDE:

Also included are fifteen (15) EAGLE +429 Embedded Global Positioning/ Inertial Navigation (EGI) System (12 production and 3 spares); eight (8) AN/APX-123A Identification Friend or Foe (IFF) transponder (6 production and 2 spares); fifteen (15) AN/ARC-201D (twelve (12) production and three (3) spares); fifteen (15) AN/ARC-231 radios (12 production and 3 spares); eight (8) AN/ARC-220 radios (6 production and 2 spares); two (2) VRC-100 HF Radio Ground Stations (1 for primary operations and 1 spares); eight (8) AN/AVR-2B Laser Warning Receiver (6 production and 2 spares); twelve (12) Common Missile Warning System (CMWS) User Data Module (UDM); eight (8) TALON Forward Looking Infrared Radar (TALON FLIR) (6 production and 2 spares); eight (8) EBC-406 Emergency Locator Transmitter (6 production and 2 spares); thirty (30) AN/AVS-6 Military Grade Night Vision Goggles; fifteen (15) AN/AVS-7 Improved Heads Up Display (IHUD) (Day) (12 for primary aircrew and 3 spares); fifteen (15) AN/AVS-7 Improved Heads Up Display (IHUD (Night) (12 for primary aircrew and 3 spares); five hundred (500) 1305-A965, CTG, 25.4mm, decoy M839; eight hundred (800) flare, aircraft, countermeasure, M206; thirty-eight thousand four hundred (38,400) 7.62mm, 4 Ball, M80, 1 Tracer, Linked A; eight (8) cartridge, impulse, MH44-0; twenty-four (24) cartridge, aircraft fire extinguisher; eight (8) cartridge, impulse, CCU-92/A; one thousand four hundred forty (1,440) cartridge, impulse, BBU-35/B; aircraft warranty, air worthiness support, spare and repair parts, support equipment, communication equipment, publications and technical documentation, personnel training and training equipment, ground support equipment, site surveys, tool and test equipment, Security Assistance Training Field Activity (SATFA) Aviation Courses, Technical Assistance Fielding Team (TAFT), U.S. Government and contractor technical and logistics support services, and other related element of program, technical and logistics support.

(iv) Military Department: Army (LH-B-UDT)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: July 6, 2020

*As defined in Section 47(6) of the Arms Export Control Act.

POLICY JUSTIFICATION

Lithuania—UH-60M Black Hawk Helicopters

The Government of Lithuania has requested to buy six (6) UH-60M Black Hawk helicopters in standard U.S. Government configuration with designated unique equipment and Government Furnished Equipment (GFE) with fourteen (14) T700-GE-701D engines (12 installed and 2 spares); eight (8) AN/AAR-57 Common Missile Warning System (CMWS) (6 production and 2 spares); twelve (12) M240H machine guns. Also included are fifteen (15) EAGLE +429 Embedded Global Positioning/Inertial Navigation (EGI) System (12 production and 3 spares); eight (8) AN/APX-123A Identification Friend or Foe (IFF) transponder (6 production and 2 spares); fifteen (15) AN/ARC-201D (twelve (12) production and three (3) spares); fifteen (15) AN/ARC-231 radios (12 production and 3 spares); eight (8) AN/ARC-220 radios (6 production and 2 spares); two (2) VRC-100 HF Radio Ground Stations (1 for primary operations and 1 spares); eight (8) AN/AVR-2B Laser Warning Receiver (6 production and 2 spares); twelve (12) Common Missile Warning System (CMWS) User Data Module (UDM); eight (8) TALON Forward Looking Infrared Radar (TALON FLIR) (6 production and 2 spares); eight (8) EBC-406 Emergency Locator Transmitter (6 production and 2 spares); thirty (30) AN/AVS-6 Military Grade Night Vision Goggles; fifteen (15) AN/AVS-7 Improved Heads Up Display (IHUD) (Day) (12 for primary aircrew and 3 spares); fifteen (15) AN/AVS-7 Improved Heads Up Display (IHUD (Night) (12 for primary aircrew and 3 spares); five hundred (500) 1305-A965, CTG, 25.4mm, decoy M839; eight hundred (800) flare, aircraft, countermeasure, M206; thirty-eight thousand four hundred (38,400) 7.62mm, 4 Ball, M80, 1 Tracer, Linked A; eight (8) cartridge, impulse, MH44-0; twenty-four (24) cartridge, aircraft fire extinguisher; eight (8) cartridge, impulse, CCU-92/A; one thousand four hundred forty (1,440) cartridge, impulse, BBU-35/B; aircraft warranty, air worthiness support, spare and repair parts, support equipment, communication equipment, publications and technical documentation, personnel training and training equipment, ground support equipment, site surveys, tool and test equipment, Security Assistance Training Field Activity (SATFA) Aviation Courses, Technical Assistance Fielding Team (TAFT), U.S. Government and contractor technical and logistics support services, and other related elements of program, technical and logistics support. The total estimated program cost is $380 million.

This proposed sale will support the foreign policy and national security of the United States by helping to improve the security of a NATO ally that is an important force for ensuring peace and stability in Europe.

The proposed sale of these UH-60 helicopters to Lithuania will significantly increase its capability to provide troop lift, border security, anti-terrorist, medical evacuation, search and rescue, re-supply/external lift, combat support in all weather. These UH-60 helicopters will allow for interoperability with U.S. and NATO forces in rapid response to a variety of missions and quick positioning of troops with minimal helicopter assets.

Lithuania intends to use these defense articles and services to modernize and expand its armed forces to provide multi-mission support in its region and combat terrorism threats. Lithuania will have no difficulty absorbing these helicopters into its armed forces.

The proposed sale of this equipment will not alter the basic military balance in the region.

The principal contractors will be Sikorsky Aircraft Company, Stratford, CT; and General Electric Aircraft Company (GEAC) in Lynn, MA. There are no known offset agreements in connection with this potential sale.

Implementation of this proposed sale may require the assignment of an additional three U.S. Government and five contractor representatives in country full-time to support the delivery and training for approximately two-five years.

There will be no adverse impact on U.S. defense readiness as a result of this proposed sale.

Transmittal No. 20-47

Notice of Proposed Issuance of Letter of Offer Pursuant to Section 36(b)(1) of the Arms Export Control Act

Annex

Item No. vii

(vii) Sensitivity of Technology:

1. The UH-60M aircraft is a medium lift four bladed aircraft which includes two (2) T-701D Engines. The aircraft has four (4) Multifunction Displays (MFD), which provides aircraft system, flight, mission, and communication management systems. The instrumentation panel includes four (4) Multifunction Displays (MFDs), two (2) Pilot and Co-Pilot Flight Director Panels, and two (2) Data Concentrator Units (DCUs). The Navigation System will have Embedded GPS/INS (EGIs), and two (2) Advanced Flight Control Computer Systems (AFCC), which provide 4 axis aircraft control.

2. The EAGLE +429 Embedded Global Positioning / Inertial Navigation (EGI) System provides GPS and INS capabilities to the aircraft. The EGI will include Selective Availability Anti-Spoofing Module (SAASM) security modules to be used for secure GPS PPS.

3. The ARC-231(V)(C) Radio System operates from 30 to 512 MHz, AM/FM Very High Frequency (VHF), Ultra High Frequency (UHF) Line-of-Sight (LOS) with frequency agile modes Electronic counter-countermeasures (ECCM), UHF Satellite Communications (SATCOM), Demand Assigned Multiple Access (DAMA), Integrated Waveform (IW), Air Traffic Control (ATC) channel spacing is operator selectable in 5, 8.33, 12.5, and 25kHz steps. Standard Ship-to-Shore Maritime operation is also available. Communications security is achieved via an updated embedded encryption engine, certified by the National Security Agency (NSA). Communications integrity is maintained with SINCGARS (Single Channel Ground and Airborne Radio System) and HAVE QUICK I and II frequency agile modes. UHF SATCOM and DAMA protocols provide BLOS (Beyond Line-of-Sight) satellite communications. Networking is achieved with an embedded Internet Protocol (IP) stack and menu configurable network parameters.

4. The AN/APX-123A, Identification Friend or Foe (IFF) Transponder, is a space diversity transponder and is installed on various military platforms. When installed in conjunction with platform antennas and the Remote Control Unit (or other appropriate control unit), the transponder provides identification, altitude and surveillance reporting in response to interrogations from airborne, ground-based and/or surface interrogators.

5. The AN/ARC-201D, Single Channel Ground to Air Radio System (SINCGARS), is a tactical airborne radio subsystem that provides secure, anti-jam voice and data communication. The integration of COMSEC and Data Rate Adapter (DRA) combines three Line Replaceable Units into one and reduces overall weight of the aircraft.

6. The VRC-100 High Frequency (HF) Communication System is the ground station version of the AN/ARC-220 for use in Aviation Operation Centers. It provides for advanced voice and data capabilities for short-and long-distance communications. The systems is software programmable with a frequency range of 2.0000-29.9999 MHz, in 100-Hz steps and provides for providing embedded automatic Link establishment (ALE), serial tone data modem, text messaging, GPS position reporting and anti-jam (ECCM) functions. System purchased with all required mounts, amplifiers, antennas, power supplies, and accessories.

7. The AN/AAR-57 Common Missile Warning System (CMWS) is an integrated infrared (IR) countermeasures suite utilizing five ultraviolet (UV) sensors to display accurate threat location and dispense decoys/countermeasures either automatically or under pilot/crew control to defeat incoming missile threats. CMWS is a detection component of the suite of countermeasures designed to increase survivability of current generation combat aircraft and specialized special operations aircraft against the threat posed by infrared guided missiles.

8. The Common Missile Warning System (CMWS) User Data Module (UDM) (NSN 7025-01-647-8526) is a classified, removable Personal Computer Memory Card International Association (PCMCIA) module that is installed in the UDM housing on the CMWS ECU. The UDM contains the Operational Flight Program (OFP), aircraft, threat/countermeasure file library, and mission specific information used in the embedded system.

9. The TALON Forward Looking Infrared Radar (TALON FLIR) is a compact multi-sensor thermal imaging system utilized for personnel recovery. Search and rescue missions are supported with the thermal imaging, daylight camera, and laser rangefinder payloads. Includes Joystick Control Unit (JCU).

10. AN/ARC-220, High Frequency (HF) Radio multifunctional, fully Digital Signal Processing (DSP) high frequency radio for rotary wing applications. Provides embedded Automatic Link Establishment (ALE), serial tone data modem, text messaging, GPS position reporting and anti-jam (ECCM) functions. Embedded ECCM and data modem.

11. EBC-406 (Emergency Locator Transmitter) is loaded with country unique codes (at delivery in country) that aid in the recovery of a down aircraft/personnel with a loud beeping tone and flashing LED. The ELT transmits on 406.028 MHz, the civil 121.5 MHz, and the military 243.0 MHz emergency frequencies.

12. The AN/AVR-2B Laser Warning Receiver detects laser rangefinders, target designators and beam rider laser-aided systems targeting an aircraft or vehicle. The AVR-2B is a detection component of the suite of countermeasures designed to increase survivability of current generation combat aircraft and specialized special operations aircraft against the threat posed by laser designated or guided weapons.

13. The AN/AVS-6 Military Grade Night Vision Goggles are helmet mounted, optoelectronic devices that allows images be produced in levels of light approaching total darkness. The image may be a conversion to visible light of both visible light and near-infrared.

14. The AN/AVS-7 Improved Heads Up Display (IHUD) (Day and Night) is a standard helicopter aviator day and night helmet mounted display system. The IHUD is an advanced, proven electro-optic system that displays critical aircraft navigation and flight symbology. The IHUD can be used alone during daylight operations, or combined with the AN/AVS-6 goggles during night operation.

15. The M206, a magnesium Teflon flare, provides protection against a wide range of surface to air threats.

16. The highest level of information required to furnish the equipment, training, and data associated with this proposed sale is classified SECRET.

17. This sale is necessary in furtherance of the U.S. foreign policy and national security objectives outlined in the enclosed Policy Justification. A determination has been made that Lithuania can provide the same degree of protection for the sensitive technology being released as the U.S. Government.

18. All defense articles and services listed in this transmittal have been authorized for release and export to Lithuania.

[FR Doc. 2020-18698 Filed 8-25-20; 8:45 am]

BILLING CODE 5001-06-P